Title 3—

The President

Proclamation 10710 of March 11, 2024

National Equal Pay Day, 2024

By the President of the United States of America

A Proclamation

On National Equal Pay Day, we highlight the injustice of gender wage gaps by marking how far into this year women have to work, on average, to earn what men made last year. Over a lifetime, these inequities can amount to millions of dollars lost for women who do not receive the wages they deserve. Equal pay is about far more than a paycheck. It is about living up to the fundamental values that define who we are as a Nation—equality, dignity, and fairness. Today and every day, we continue working toward the promise of equal pay, recognizing that when women thrive, we all thrive.

Women's labor force participation is the highest it has been in decades, and the gender pay gap is the narrowest it has ever been on record. Yet, despite this progress, the fight for equal pay continues. Women working full-time and year-round are paid an average of 84 cents for every dollar paid to men. In more than 90 percent of occupations, women earn less than men—and these disparities are even greater for women of color and women with disabilities. The pay gap is a product of the systemic barriers that women have long faced when it comes to accessing good-paying jobs and opportunities. Further, caregiving responsibilities for children, loved ones with disabilities, and aging family members disproportionately fall on women, which can mean missing work, cutting hours, and leaving jobs.

America cannot have the strongest economy in the world while leaving women—half our workforce—behind. When I came into office, women's labor participation rate had fallen to its lowest level in more than three decades, in part because the COVID-19 pandemic had forced women out of the workforce to juggle caregiving responsibilities. In response, my Administration's American Rescue Plan invested billions of dollars to support working families, powering the strongest job creation in history. The law also helped keep the doors open to 220,000 child care centers, 90 percent of which were owned and staffed by women.

Since I took office, nearly 15 million jobs have been created, and we are working relentlessly to ensure these jobs are accessible to women. Across the major laws I have signed—such as the Bipartisan Infrastructure Law, which is rebuilding our Nation; the CHIPS and Science Act, which is restoring our technological edge; and the Inflation Reduction Act, which is paving the way for a clean energy future—we are making sure women have a fair shot at securing the good-paying jobs being created. For the first time, firms receiving significant Federal dollars will be required to ensure they have high-quality child care available to their workers. I have signed a sweeping Executive Order that includes more than 50 directives to expand access to affordable, high-quality care and provide support for care workers and family caregivers. Additionally, I signed legislation that provides new protections for pregnant and nursing workers. This past year, the Small Business Administration delivered $5.1 billion in loans to women-owned businesses.

To advance pay equity, my Administration has committed to leading by example and making the Federal Government a model employer. That is why we have taken action to close persistent wage gaps. We finalized a rule ensuring that Federal agencies no longer consider an applicant's current or past pay when determining their future salaries—eliminating pay inequities that can otherwise follow workers from job to job. My Administration has proposed regulations to advance pay equity and pay transparency for workers on Federal contracts.

We are making tremendous progress, but there is still much more we must do. My Administration continues to call on the Congress to pass the Paycheck Fairness Act—commonsense legislation that would increase pay transparency and give workers more tools to fight sex-based pay discrimination.

On National Equal Pay Day, let us redouble our efforts to ensure that women get the pay they have earned and deserve. Let us recommit to giving our daughters the same opportunities as our sons. Let us remember our responsibility to live up to our Nation's fundamental values of equality, dignity, and fairness for all Americans.

NOW, THEREFORE, I, JOSEPH R. BIDEN JR., President of the United States of America, by virtue of the authority vested in me by the Constitution and the laws of the United States, do hereby proclaim March 12, 2024, as National Equal Pay Day. I call upon all Americans to recognize the full value of women's skills and their significant contributions to the labor force, acknowledge the injustice of wage inequality, and join efforts to achieve equal pay.

IN WITNESS WHEREOF, I have hereunto set my hand this eleventh day of March, in the year of our Lord two thousand twenty-four, and of the Independence of the United States of America the two hundred and forty-eighth.

[FR Doc. 2024-05587

Filed 3-13-24; 8:45 am]

Billing code 3395-F4-P